DEPARTMENT OF TRANSPORTATION

Surface Transportation Board

[STB Finance Docket No. 33899]

Norfolk Southern Railway Co.—Trackage Rights Exemption—Ohio Southern Railroad, Inc. in Athens County, OH

Ohio Southern Railroad, Incorporated (OSRR) has agreed to grant overhead and local trackage rights to Norfolk Southern Railway Company (NS) over OSRR's mainline of railroad between the division of control/ownership between OSRR and the Pennsylvania Lines LLC line of railroad operated by NS, milepost RR-65.7 (OSRR's milepost 56.7) at Glouster, OH, and the end of OSRR's line of railroad at OSRR's milepost 57.3 at South Glouster, OH, a total distance of approximately 0.6 miles.

The transaction is related to and will be effective on the consummation of OSRR's acquisition of the line pursuant to its notice of exemption filed June 30, 2000, in STB Finance Docket No. 33896, Ohio Southern Railroad, Incorporated—Acquisition and Operation Exemption—Glouster Coal Company, Glouster, OH.

NS says that the purpose of this trackage rights is to permit it to initiate new operations over the line to serve the existing customer and to provide a competitive alternative to OSRR for any new customers that may choose to locate on the line.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33899, must be filed with the Surface Transportation Board, Office of the Secretary, Case Control Unit, 1925 K Street, NW., Washington, DC 20423-0001. In addition, one copy of each pleading must be served on John V. Edwards, Norfolk Southern Railway Corporation, Three Commercial Place, Norfolk, VA 23510-2191.

Board decisions and notices are available on our website at “WWW.STB.DOT.GOV.”

By the Board, Joseph H. Dettmar, Acting Director, Office of Proceedings.

Decided: July 11, 2000.
Vernon A. Williams,
Secretary.

[FR Doc. 00-18045 Filed 7-17-00; 8:45 am]

BILLING CODE 4915-00-P